DEPARTMENT OF COMMERCE

International Trade Administration

A-580-839

Certain Polyester Staple Fiber from the Republic of Korea: Extension of Time Limit for the Final Results of the Antidumping Duty Administrative Review

AGENCY: Import Administration, International Trade Administration, Department of Commerce.

SUMMARY: The Department of Commerce is extending the time limit for the final results of the administrative review of the antidumping duty order on certain polyester staple fiber from the Republic of Korea. The period of review is May 1, 2003, through April 30, 2004. This extension is made pursuant to section 751(a)(3)(A) of the Tariff Act of 1930, as amended by the Uruguay Round Agreements Act.

EFFECTIVE DATE: October 5, 2005.

FOR FURTHER INFORMATION CONTACT: Andrew McAllister or Yasmin Bordas, AD/CVD Operations, Office 1, Import Administration, International Trade Administration, U.S. Department of Commerce, 14th Street and Constitution Avenue, NW, Washington DC 20230; telephone: (202) 482-1174 or (202) 482-3813, respectively.

SUPPLEMENTARY INFORMATION:

Background

On June 6, 2005, the Department of Commerce (“the Department”) published the preliminary results of the administrative review of the antidumping duty order on certain polyester staple fiber from the Republic of Korea covering the period May 1, 2003, through April 30, 2004 (70 FR 32756). The final results for the antidumping duty administrative review of certain polyester staple fiber from the Republic of Korea are currently due no later than October 4, 2005.

Extension of Time Limits for Final Results

Section 751(a)(3)(A) of the Tariff Act of 1930, as amended by the Uruguay Round Agreements Act (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

Because the Department requires additional time to review and analyze the comments submitted by interested parties regarding complex physical characteristic codes of control numbers, it is not practicable to complete this review within the originally anticipated time limit (i.e., by October 4, 2005). Accordingly, the Department is extending the time limit for completion of the final results to no later than December 5, 2005, in accordance with section 751(a)(3)(A) of the Act.

We are issuing and publishing this notice in accordance with sections 751(a)(1) and 777(i)(1) of the Act.

Dated: September 29, 2005.
Barbara E. Tillman,
Acting Deputy Assistant Secretary for Import Administration.

[FR Doc. E5-5459 Filed 10-4-05; 8:45 am]

BILLING CODE: 3510-DS-S